DEPARTMENT OF HOMELAND SECURITY

U.S. Customs and Border Protection

8 CFR Part 100

19 CFR Part 101

[Docket No. USCBP-2011-0032]

RIN 1651-AA90

Opening of Boquillas Border Crossing and Update to the Class B Port of Entry Description

AGENCY: U.S. Customs and Border Protection, DHS.

ACTION: Notice of proposed rulemaking.

SUMMARY: This notice of proposed rulemaking proposes to create a border crossing in Big Bend National Park to be called Boquillas. The Boquillas crossing would be situated between Presidio and Del Rio, Texas. U.S. Customs and Border Protection (CBP) and the National Park Service plan to partner on the construction of a joint use facility in Big Bend National Park where the border crossing would operate. This NPRM proposes to designate the Boquillas border crossing as a “Customs station” for customs purposes and a Class B port of entry for immigration purposes.

This NPRM also proposes to update the description of a Class B port of entry to reflect current border crossing documentation requirements.

DATES: Comments must be received on or before December 27, 2011.

ADDRESSES: You may submit comments identified by docket number, by one of the following methods:

• Federal eRulemaking Portal: http://www.regulations.gov. Follow the instructions for submitting comments via docket number USCBP-2011-0032.

• Mail: Border Security Regulations Branch, Office of International Trade, Customs and Border Protection, Regulations and Rulings, Attention: Border Security Regulations Branch, 799 9th Street, NW., 5th Floor, Washington, DC 20229-1179.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected on regular business days between the hours of 9 a.m. and 4:30 p.m. at the Office of International Trade, Customs and Border Protection, 799 9th Street, NW., 5th Floor, Washington, DC. Arrangements to inspect submitted comments should be made in advance by calling Mr. Joseph Clark at (202) 325-0118.

FOR FURTHER INFORMATION CONTACT: Colleen Manaher, CBP Office of Field Operations, telephone (202) 344-3003.

SUPPLEMENTARY INFORMATION:

Public Participation

Interested persons are invited to participate in this rulemaking by submitting written data, views, or arguments on all aspects of this notice of proposed rulemaking. CBP also invites comments that relate to the economic, environmental, or federalism effects that might result from this proposal. Comments that will provide the most assistance to CBP will reference a specific portion of the proposal, explain the reason for any recommended change, and include data, information, or authority that support such recommended change.

Background

The term “port of entry” is used in the Code of Federal Regulations (CFR) in title 19 for customs purposes and in title 8 for immigration purposes. Concerning customs purposes, CBP operates Customs ports of entry,¹ service ports,² and “Customs stations” ³ listed and described in part 101 of the CBP regulations (19 CFR part 101). Section 101.3 of the CBP regulations (19 CFR 101.3) lists the Customs ports of entry and service ports. Section 101.4 of the CBP regulations (19 CFR 101.4) lists the “Customs stations” and the supervisory port of entry for each station. In addition, for immigration purposes, 8 CFR 100.4(a) lists ports of entry for aliens arriving by vessel and land transportation. These ports are listed according to location by districts and are designated as Class A, B, or C, which designates which aliens may use the port. As explained in detail in the section of this document entitled “Proposed Revision of Class B Port of Entry Description,” we are proposing to revise the description of a Class B port of entry so that it conforms to recent changes to documentary requirements.⁴

¹ A port of entry is defined in 19 CFR 101.1 as “any place designated by Executive Order of the President, by order of the Secretary of the Treasury, or by Act of Congress, at which a Customs officer is authorized to accept entries of merchandise to collect duties, and to enforce the various provisions of the Customs and navigation laws.” The authority of the Secretary of the Treasury referred to in this definition has been transferred to the Secretary of Homeland Security. Sections 403(l) and 411 of the Homeland Security Act of 2002 (“the Act,” Pub. L. 107-296, 6 U.S.C. 203(l), 211) transferred the United States Customs Service and its functions from the Department of the Treasury to the Department of Homeland Security.

² A service port is defined in 19 CFR 101.1 as “a Customs location having a full range of cargo processing functions, including inspections, entry, collections, and verification.”

³ A “Customs station” is defined in 19 CFR 101.1 as “any place, other than a port of entry, at which Customs officers or employees are stationed, under the authority contained in article IX of the President's Message of March 3, 1913 (T.D. 33249), to enter and clear vessels, accept entries of merchandise, collect duties, and enforce the various provisions of Customs and navigation laws of the United States.”

⁴ Class A ports of entry are those designated for all aliens. Class C ports of entry are designated only for aliens arriving as crewmen, as the term is defined by the Immigration and Nationality Act with respect to vessels.

This notice of proposed rulemaking (NPRM) proposes to establish a border crossing in Big Bend National Park where U.S. citizens and certain aliens would be able to cross into the United States. Before 2002, a border crossing, called Boquillas, was open in the national park. The new border crossing would be located at the site of the historic crossing and would also be called the Boquillas border crossing. This NPRM proposes to designate the Boquillas border crossing as a Class B port of entry and a “Customs station” under the supervisory port of entry of Presidio, Texas. Presidio, Texas is a Customs port of entry listed in section 101.3 of the CBP regulations (19 CFR 101.3). For ease of reference, this NPRM refers to the proposed Boquillas port of entry/“Customs station” in this document as a border crossing.

History of Big Bend National Park

Sixty-five years ago, the Presidents of the United States and Mexico corresponded about creating Big Bend National Park in the United States, wherein they envisioned the conservation of the shared ecosystems on both sides of the Rio Grande. Mexico later established the Cañon de Santa Elena and Maderas del Carmen protected areas in Chihuahua and Coahuila, which are adjacent to Big Bend. In 1935, the U.S. Congress authorized Big Bend National Park to preserve and protect a representative area of the Chihuahuan Desert along the Rio Grande for the benefit and enjoyment of present and future generations. The park, formally established in June 1944, encompasses more than 800,000 acres in southwest Texas. The Rio Grande runs through the park and forms part of the international boundary between Mexico and the United States. The park includes rich biological and geological diversity, cultural history, recreational resources, and outstanding opportunities for binational protection of our shared natural and cultural heritage.

Prior to 2002, visitors to the park could cross the Rio Grande to eat, buy goods, and experience the villages near the border, such as Boquillas, Mexico. In May 2002, following September 11, 2001 (9/11), the Boquillas crossing was closed until appropriate security measures could be implemented. Since 2002, there has been no authorized international crossing point within Big Bend National Park. The nearest border crossing currently is located in the port of entry of Presidio, Texas, located approximately 100 miles west. Due to the current situation, park staff and visitors of Big Bend National Park who wish to travel to the protected areas of Mexico directly across from the park must drive several hours to depart and reenter the United States through the nearest port of entry at Presidio, Texas.

United States-Mexico Joint Presidential Statement

On May 19, 2010, President Obama and President Calderón issued a joint statement pledging both countries' commitment to protecting wild lands on opposite sides of the Rio Grande, noting the long history of bilateral cooperation in the conservation of natural and cultural resources. The Presidents recognized that the Big Bend National Park and Rio Grande Wild and Scenic River in the United States, along with the Protected Areas of Maderas del Carmen, Cañon de Santa Elena, Ocampo, and Río Bravo del Norte in Mexico, together comprise one of the largest and most significant ecological systems in North America. To preserve this region of extraordinary biological diversity, they expressed their support for the U.S. Department of the Interior and the Secretariat of Environment and Natural Resources of Mexico to work through appropriate national processes to recognize and designate Big Bend-Río Bravo as a natural area of binational interest. The Presidents noted that increased cooperation in these protected areas would restrict development and enhance security in the region and within this fragile desert ecosystem. The joint Presidential statement encourages an increased level of cooperation between the two countries.

Based on this joint Presidential statement, on January 6, 2011, the Commissioner of CBP announced that CBP plans to re-establish a border crossing at Boquillas. The ability to enter the United States from within the protected areas would foster the Presidents' goals by supporting visitor access to these unique areas.

Proposed Boquillas Border Crossing

This NPRM proposes to create a border crossing in Big Bend National Park where U.S. citizens and certain aliens with proper documentation would be able to enter the United States from Mexico. The Boquillas border crossing would fill the void of a long stretch of border between Presidio and Del Rio, Texas where there is currently no authorized international border crossing and would facilitate travel within the Big Bend-Río Bravo region. This NPRM proposes to designate the Boquillas border crossing as a “Customs station” for customs purposes and a Class B port of entry for immigration purposes. Under this NPRM, CBP is also proposing to update the description of a Class B port of entry to reflect current border crossing document requirements. The Boquillas border crossing would fit within the proposed new description of a Class B port of entry.

Big Bend National Park is one of the most biologically diverse regions in the world and represents an area of binational interest. A border crossing would support park rangers and scientists on both sides of the border and aid in the joint protection of shared wildlife such as black bear and cougars. The partnership with Mexico would add to the cooperative environment that has developed for the protection of wildlife and encourage travel to this biologically diverse region.

Coordination With the National Park Service

The National Park Service (NPS) within the U.S. Department of the Interior is working with CBP on the proposed border crossing. Efforts to establish this new border crossing were set in motion by discussions between the White House, the U.S. Department of the Interior, and the Department of Homeland Security. CBP and NPS plan to collaborate on the construction of a joint use facility in Big Bend National Park where the border crossing will operate. NPS would provide the needed land and would construct the facility. NPS also would provide parking, an access trail, and a landing point for the cross-border boats. Additionally, NPS has prepared an environmental analysis, as required by the National Environmental Policy Act (NEPA), to determine the impact the new facility will have on the environment.

The new facility would include the infrastructure necessary to operate a border crossing, functioning as a “Customs station” and a Class B immigration port of entry. The facility would also accommodate the NPS functions that support the ability to manage visitor use of the border crossing, and would provide public restrooms, an information lobby, and a waiting area. NPS plans to provide staffing for visitor contact during normal park operational hours.

Boquillas Border Crossing Operations

The proposed Boquillas border crossing would be a “Customs station” under the supervisory port of entry of Presidio, Texas, which is a Customs port of entry. 19 CFR 101.3. The site of the border crossing would be in the southeast portion of Big Bend National Park, approximately one mile northeast of Rio Grande Village. The site is adjacent to the Rio Grande just outside of the floodplain and would be accessible from Boquillas Canyon Road, a paved road leading from Rio Grande Village to the Boquillas Canyon Trailhead. CBP Border Patrol agents and NPS law enforcement currently work onsite within the Big Bend National Park boundaries and would provide a law enforcement presence and response as needed. The border crossing would only be open during daylight hours.

The Boquillas border crossing would allow U.S. citizens and certain aliens with appropriate lawful documentation to enter the United States from Mexico. We anticipate that park visitors, park staff, and researchers would use the border crossing. As there is no bridge across the Rio Grande (the international border) to support vehicular traffic, travelers would reach the building on foot after crossing the river on their own or by ferry.

Traveler Inspection at the Boquillas Border Crossing

CBP intends to use a combination of staffing and technology solutions to operate the border crossing. Remote technology would assist CBP in maintaining security and verifying the identity of those entering the United States, while also ensuring that they possess proper documentation to do so. Kiosks electronically connected to the El Paso port of entry would enable CBP officers in El Paso to remotely process travelers at the Boquillas border crossing.⁵ CBP officers in El Paso would be in contact with Border Patrol agents within the park, who could respond when a physical inspection is required. CBP officers would assist onsite as operational needs dictate. CBP would install a 24-hour surveillance camera at the Boquillas crossing to monitor activity. CBP will process and clear all persons who use the Boquillas border crossing to enter the United States.

⁵ Although Boquillas would be under the supervision of the Presidio port of entry, the kiosks would be connected to the El Paso port of entry because El Paso has the appropriate facilities for remote processing.

The Boquillas border crossing would service only pedestrians visiting Big Bend National Park and Mexican Protected Areas—not import business. Therefore, CBP will not process cargo, commercial entries, or vehicles at Boquillas. Persons using the Boquillas border crossing would only be permitted to bring limited merchandise into the United States; CBP would only process items exempt from duties and taxes under 19 CFR 10.151. This provision generally covers importations that do not exceed $200 in value.⁶ All such items must comply with all applicable regulations, including all relevant Animal and Plant Health Inspection Service restrictions. Persons using the Boquillas crossing must also comply with Federal wildlife protection laws and U.S. Fish and Wildlife Service wildlife import/export regulations.

⁶ Under 19 CFR 10.151, importations that do not exceed $200 in value are generally exempt from duty and taxes. Such merchandise shall be entered under the informal entry procedures. See 19 CFR 128.24(d).

Proposed Revision of Class B Port of Entry Description

The current description of a Class B port of entry in 8 CFR 100.4(a) refers to aliens admissible without documents under documentary waivers found in 8 CFR part 212. These waivers, however, were generally eliminated by the Intelligence Reform and Terrorism Prevention Act of 2004 (IRTPA), Public Law No. 108-458, § 7209, 118 Stat. 3638, 3823, as amended.

Pursuant to IRTPA, DHS and the Department of State (DOS) issued two rules implementing the Western Hemisphere Travel Initiative (WHTI), which require U.S. citizens and nonimmigrant aliens from Bermuda, Canada, and Mexico to present certain documents when entering the United States from within the Western Hemisphere.⁷ The WHTI rules amended, among other sections of the Code of Federal Regulations, 8 CFR 212.0, 212.1, and 235.1, pertaining to documentary requirements for nonimmigrants and the inspection of persons applying for admission to enter the United States.

⁷ On November 24, 2006, DHS and DOS issued a joint final rule, effective on January 23, 2007, that implemented WHTI at U.S. air ports of entry. See 71 FR 68412. On April 3, 2008, DHS and DOS issued another joint final rule, effective on June 1, 2009, that implemented WHTI at U.S. land and sea ports of entry. See 73 FR 18384.

Prior to the implementation of WHTI, nationals of Bermuda and Canada, and certain nationals of Mexico, were exempt from documentary requirements if entering the United States from within the Western Hemisphere. The WHTI final rules amended the relevant sections of the regulations (in parts 212 and 235) to provide that these travelers are no longer admissible without documents and must present a document compliant with WHTI when seeking to enter the United States.

As a result of the changes implemented by WHTI, the description of Class B ports of entry in 8 CFR 100.4(a) is now outdated. CBP regulations currently describe Class B ports as follows:

Class B means that the port is a designated Port-of-Entry for aliens who at the time of applying for admission are lawfully in possession of valid Permanent Resident Cards or valid non-resident aliens' border-crossing identification cards or are admissible without documents under the documentary waivers contained in part 212 of this chapter. (emphasis added)

The aliens who were previously admissible without documents pursuant to 8 CFR part 212 were nonimmigrant aliens who were nationals of Bermuda or Canada or certain nationals of Mexico. In general, these persons must now comply with WHTI documentary requirements as set forth in parts 212 and 235. Thus, this NPRM proposes amending the description of a Class B port of entry to delete the outdated phrase “are admissible without documents under the documentary waivers contained in part 212 of this chapter” and replace it with language that is more precise and consistent with WHTI requirements.

The WHTI rules did not remove the exemption from documentary requirements for International Boundary and Water Commission (IBWC) workers. See 8 CFR 212.1(c)(5). Therefore, employees, who are involved either directly or indirectly on the construction, operation, or maintenance of works in the United States undertaken in accordance with a 1944 treaty between the United States and Mexico regarding the functions of the IBWC, and entering the United States temporarily in connection with such employment, continue to be exempt from WHTI document requirements. Under the proposed Class B description, these persons will continue to be admissible without documents at a Class B port of entry.

The proposed Class B description is set forth below:

Class B means that the port is a designated Port-of-Entry for aliens who at the time of applying for admission are exempt from document requirements by section 212.1(c)(5) of this chapter or who are lawfully in possession of valid Permanent Resident Cards, and nonimmigrant aliens who are citizens of Canada or Bermuda or nationals of Mexico and who at the time of applying for admission are lawfully in possession of all valid documents required for admission as set forth in section 212.1(a) and (c) and 235.1(d) and (e) of this chapter and are admissible without further arrival documentation or immigration processing.

The proposed Class B description includes other technical and clarifying revisions that will make the regulation easier for the public to understand. Specifically, one change under the proposed description would remove reference to “valid non-resident aliens' border-crossing cards” from the Class B description. This reference would be redundant if included in the new description because border-crossing cards are one of the acceptable WHTI compliant documents listed in section 212.1(c). Therefore, it is unnecessary to specify border-crossing cards in the Class B description. Moreover, CBP will continue to accept these border-crossing cards at Class B ports of entry under the new description.

Another change under the proposed Class B description expressly would permit Mexican nationals in lawful possession of valid WHTI-compliant documents, including border-crossing cards, to use Class B ports of entry. The current Class B description does not specify that Mexican nationals possessing WHTI-compliant documents, other than a border-crossing card, may use Class B ports of entry. This change will align the Class B description with current WHTI requirements.

Finally, CBP notes that while Class A ports are designated for all aliens and designed to provide full processing at the border, Class B ports are designed for processing a more limited segment of those aliens entering the United States. Class B ports generally provide limited functions and are not now and were not previously intended to provide full service processing, including issuing documents (such as a Form I-94) at the border. Therefore, the proposed description includes language to clarify that the aliens listed in the Class B description must be admissible without further arrival documentation or immigration processing.

Proposed Amendments to the Regulations

If the proposed opening of the Boquillas border crossing is adopted, the list of ports of entry in 8 CFR 100.4(a) and the list of “Customs stations” in 19 CFR 101.4(c) will be amended to reflect this change.

Authority

These changes are proposed pursuant to 5 U.S.C. 301, 6 U.S.C. 112, 203 and 211, 8 U.S.C. 1103, 8 U.S.C. 1185 note (section 7209 of Pub. L. 108-458), and 19 U.S.C. 1, 58b, 66 and 1624.

Executive Orders 12866 (Regulatory Planning and Review) and 13563 (Improving Regulation and Regulatory Review)

Executive Order 12866, as amended by Executive Order 13563, requires Federal agencies to assess the costs and benefits of regulatory actions as a means to improve regulatory decision making. This NPRM is not an “economically significant” rulemaking action under Executive Order 12866, because it will not result in the expenditure of more than $100 million in any one year. This NPRM, however, is a significant regulatory action under Executive Order 12866; therefore, the Office of Management and Budget has reviewed this regulation.

The opening of the Boquillas border crossing will entail constructing a small inspection facility and installing hardware that meets the technical specifications for land ports of entry. NPS will construct a building large enough to house both a small visitor center and the CBP inspection station. This construction is to be funded entirely by NPS and is expected to cost $2.1 million,⁸ which accounts for special construction needed to address the remoteness of the facility. CBP will be responsible for procuring and installing all equipment needed for its operation, which includes inspection kiosks, surveillance equipment, and an agricultural waste disposal system. This equipment will cost $1,577,000 the first year, which includes installation, hardware, connectivity, and security.⁹ We estimate that the facility will cost $200,000 each year for operation and maintenance; an estimated $195,000 will be incurred by CBP and $5,000 by NPS.¹⁰ NPS will also staff the facility with a combination of paid seasonal and volunteer personnel. NPS estimates that 0.5 paid Full-Time Equivalents (FTEs) will be needed to staff the new facility at a cost of approximately $17,800 per year.¹¹ The total cost of opening the Boquillas border crossing is estimated to be $3.7 million in the first year and $217,800 in subsequent years, all of which will be incurred by the U.S. government.

⁸ Source: National Park Service Predesign Study—Boquillas Crossing Visitor Contact/Border Station. January 2011.

⁹ Source: CBP Office of Information Technology estimate on March 4, 2011.

¹⁰ Sources: CBP Office of Information Technology estimate on March 4, 2011 and National Park Service estimate on March 24, 2011.

¹¹ NPS assumes the facility will be staffed seasonally for approximately half the year with a GS-05 step 5 employee ($35,489 annual salary). Email communication with Big Bend park management staff on March 24, 2011. Salary information: http://www.opm.gov/oca/11tables/html/RUS.asp, accessed March 24, 2011. Calculation: 0.5 FTE × $35,489 = $17,745, rounded to $17,800. This calculation does not include benefits, because the facility will be staffed by part-time seasonal employees.

NPS anticipates that 15,000 to 20,000 people will use the Boquillas border crossing in the first year.¹² Most of this traffic is expected to be U.S. citizens who will benefit from visiting the town of Boquillas del Carmen on the Mexican side of the border for food, souvenirs, and a unique cultural experience. The number of border crossers may grow over time as NPS continues to work with the Mexican government to develop ecotourism and sports and recreational opportunities. Because of the absence of data on the number of future border crossers and their willingness to pay for these experiences, we are not able to quantify the benefit of the availability of these experiences to the U.S. economy.

¹² Source: Telephone communication with Big Bend park management staff on January 10, 2011.

In addition to opening a new border crossing at Boquillas, this NPRM would revise the definition of a Class B port to make the admissibility documents allowed at a Class B port consistent with WHTI. The costs and benefits of obtaining WHTI-compliant documents were included in the Final Rule establishing WHTI.¹³ This NPRM would not result in any additional costs or benefits.

¹³ The Regulatory Assessments for the April 2008 final rule for WHTI requirements in the land environment can be found at http://www.regulations.gov, document numbers USCBP-2007-0061-0615 and USCBP-2007-0061-0616.

Regulatory Flexibility Act

This section examines the impact of the NPRM on small entities as required by the Regulatory Flexibility Act (5 U.S.C. 603), as amended by the Small Business Regulatory Enforcement and Fairness Act of 1996. A small entity may be a small business (defined as any independently owned and operated business not dominant in its field that qualifies as a small business per the Small Business Act); a small not-for-profit organization; or a small governmental jurisdiction (locality with fewer than 50,000 people).

This NPRM does not directly impact small entities because individuals will be affected by the NPRM and individuals are not considered small entities. Thus, we believe that this NPRM will likely not have a significant economic impact on a substantial number of small entities. We welcome any comments regarding this assessment. If we do not receive any comments with information that shows this NPRM would have a significant economic impact on a substantial number of small entities, we will certify that this NPRM will not have a significant economic impact on a substantial number of small entities at the final rule stage.

Executive Order 13132

The NPRM will not have substantial direct effects on the States, on the relationship between the National Government and the States, or on the distribution of power and responsibilities among the various levels of government. Therefore, in accordance with section 6 of Executive Order 13132, this NPRM does not have sufficient federalism implications to warrant the preparation of a federalism summary impact statement.

The National Environmental Policy Act of 1969

DHS and CBP, in consultation with NPS within the Department of Interior, have been reviewing the potential environmental and other impacts of this proposed rule in accordance with the National Environmental Policy Act (NEPA) of 1969 (42 U.S.C. 4321 et seq.), the regulations of the Council on Environmental Quality (40 CFR part 1500), and DHS Management Directive 023-01, Environmental Planning Program of April 19, 2006.

NPS prepared an environmental assessment (EA) that examines the effects on the natural and human environment associated with the proposed construction and operation of a visitor station and establishment of a Class B port of entry on the Rio Grande between the United States and Mexico within Big Bend National Park. The NPS EA encompasses all components of the Boquillas border crossing, including CBP operations of the port of entry. On April 29, 2011, NPS posted a notice of availability of the EA on NPS's Planning, Environment and Public Comment (PEPC) Web site at http://parkplanning.nps.gov/bibe and described how the public may provide comments on the EA. On June 28, 2011, NPS issued a Finding of No Significant Impact (FONSI) concluding that the proposed activities would not result in a significant impact to the human and natural environment.

In accordance with NEPA, CBP has carefully reviewed the EA developed by NPS and has determined that it accurately considers all potential impacts of the project; therefore, CBP intends to adopt the EA developed by NPS and issue a FONSI. CBP has posted the EA prepared by NPS and a Draft FONSI on the CBP Web site at http://www.cbp.gov and in the docket for this rulemaking at http://www.regulations.gov and solicits public comment. Members of the public may submit comments via email to CBPEnvironmentalPrograms@cbp.dhs.gov or via mail to U.S. Customs and Border Protection, Environmental Planning Branch, 1331 Pennsylvania Ave. NW., Suite 1220, Washington, DC 20229. Please reference “Boquillas” in the subject line. CBP will accept comments on these documents until December 27, 2011.

Signing Authority

The signing authority for this document falls under 19 CFR 0.2(a) because the establishment of this Customs station is not within the bounds of those regulations for which the Secretary of the Treasury has retained sole authority. Accordingly, this notice of proposed rulemaking may be signed by the Secretary of Homeland Security (or her delegate).

List of Subjects

8 CFR Part 100

Organization and functions (Government agencies).

19 CFR Part 101

Customs duties and inspection, Harbors, Organization and functions (Government agencies), Seals and insignia, Vessels.

Amendments to the Regulations

For the reasons stated in the preamble, we propose to amend 8 CFR part 100 and 19 CFR part 101 as set forth below.

Title 8—Aliens and Nationality

CHAPTER I—DEPARTMENT OF HOMELAND SECURITY

PART 100—STATEMENT OF ORGANIZATION

1. Revise the authority citation for part 100 to read as follows:

Authority: 8 U.S.C. 1103; 8 U.S.C. 1185 note (section 7209 of Pub. L. 108-458); 8 CFR part 2.

2. Amend § 100.4(a) as follows:

a. Revise the fifth sentence of § 100.4(a) as set forth below.

b. Under the heading “District No. 15—El Paso, Texas,” add the subheading, “Class B” and add “Boquillas, TX” under the new “Class B” heading.

§ 100.4 Field Offices

(a) * * * Class B means that the port is a designated Port-of-Entry for aliens who at the time of applying for admission are exempt from document requirements by § 212.1(c)(5) of this chapter or who are lawfully in possession of valid Permanent Resident Cards, and nonimmigrant aliens who are citizens of Canada or Bermuda or nationals of Mexico and who at the time of applying for admission are lawfully in possession of all valid documents required for admission as set forth in §§ 212.1(a) and (c) and 235.1(d) and (e) of this chapter and are admissible without further arrival documentation or immigration processing. * * *

Title 19—Customs Duties

CHAPTER I—U.S. CUSTOMS AND BORDER PROTECTION, DEPARTMENT OF HOMELAND SECURITY; DEPARTMENT OF THE TREASURY

PART 101—GENERAL PROVISIONS

3. The general authority citation for part 101, and the sectional authority citation for §§ 101.3 and 101.4, continue to read as follows:

Authority: 5 U.S.C. 301; 19 U.S.C. 2, 66, 1202 (General Note 3(i), Harmonized Tariff Schedule of the United States), 1623, 1624, 1646a.

Section 101.3 and 101.4 also issued under 19 U.S.C. 1 and 58b;

* * * * *

§ 101.4 [Amended]

4. In § 101.4(c), under the state of Texas, add “Boquillas” in alphabetical order to the Customs station column and add “Presidio.” to the corresponding Supervisory port of entry column.

Janet Napolitano,
Secretary.

[FR Doc. 2011-27792 Filed 10-27-11; 8:45 am]

BILLING CODE 9111-14-P